NUCLEAR REGULATORY COMMISSION

Public Workshop to Discuss Current Issues Associated with the Design and Placement of Erosion Protection

AGENCY: Nuclear Regulatory Commission.

ACTION: Notice of public workshop.

SUMMARY: This notice announces a Public Workshop to discuss current issues associated with the design and placement of erosion protection. The goal of the workshop will be to provide a forum for NRC staff to discuss, with the NRC licensees and other interested stakeholders, NRC's process for evaluating the erosion protection aspects of reclamation plans, decommissioning plans, and completion reports. Other erosion protection issues associated with the closure and reclamation of radioactive waste sites will also be discussed.

DATES: The workshop will be held at the Adam's Mark Hotel in Grand Junction, Colorado on October 3-4, 2000, beginning at 8:15 a.m.

SUPPLEMENTARY INFORMATION: Over the past 15 years, various licensees and the Department of Energy (DOE) have completed reclamation activities at over 20 uranium mill tailings sites across the United States. At most of these sites, a significant amount of rock riprap erosion protection was placed to protect the reclaimed tailings piles from erosion. NRC staff review of construction activities at these sites indicated that some were deficient in meeting construction specifications, particularly in the placement of the rock layers and in achieving the proper in-place gradations. The NRC staff has determined that some of the placement problems were related to inadequate quality assurance and testing programs, inexperience of contractor construction personnel with rock placement, an insufficient knowledge of standard industry practice, and an insufficient understanding of the quality of rock placement expected by the NRC staff to meet regulatory requirements.

The NRC staff held a rock placement workshop in 1999 for the benefit of agreement states to discuss various technical issues associated with rock placement. As part of our continuing efforts to involve the regulated community and other stakeholders in our reclamation approval activities, we will hold an expanded workshop on October 3-4, 2000 to discuss current issues related to riprap design and placement at various types of waste disposal facilities. The workshop will focus primarily on riprap placement, with recommendations for improving rock placement by using proper placement techniques and specific design techniques. The staff seeks to obtain perspectives from other regulators, agreement states, licensees, consultants, and other interested stakeholders.

The workshop will be held at the Adam's Mark Hotel in Grand Junction, Colorado on October 3-4, 2000, beginning at 8:15 a.m. The preliminary agenda for the first day includes presentations by:

(1) NRC staff, discussing experiences, regulatory requirements, expectations, and recommendations for achieving acceptable rock placement;

(2) NRC consultants, presenting the history and development of design guidance, including videotapes of prototype flume studies that simulate large flood flows over riprap layers;

(3) regulators from agreement states, providing their perspectives and experiences with rock placement;

(4) NRC licensees, discussing their perspective and experiences in meeting regulatory requirements;

(5) licensee contractors, discussing actual construction techniques that have been used to achieve acceptable rock placement and providing recommendations for designers;

(6) DOE representatives discussing the history of the DOE Title I program, the long-term surveillance and maintenance program, and the evolution and development of successful rock placement techniques;

(7) licensee consultants, discussing their experiences with riprap design and placement; and

(8) other interested parties, who may wish to provide input.

On October 4, 2000, site tours will be conducted at several sites where rock placement has been reviewed and approved by the NRC staff. These sites include Grand Junction (Cheney Reservoir) and Naturita (Umetco Upper Burbank). In addition, rock placement at the Umetco Title II site, regulated by the State of Colorado, will be observed.

The workshop is free and will be open to the public. Hotel accommodations and transportation are the responsibility of each participant. A block of rooms has been set aside at the Adam's Mark Hotel, (970) 241-8888, until September 22, 2000. These rooms are available at the government rate of $55 plus tax, and reservations should be made as early as possible. Rental cars are available from major rental car companies at the Grand Junction airport.

The NRC staff strongly encourages all interested stakeholders to attend and participate in this workshop. It will offer a unique opportunity for NRC staff and the industry to provide insights, perspectives, and information that is important for the NRC staff to consider as it seeks ways to improve its regulatory program.

FOR FURTHER INFORMATION CONTACT: Ted Johnson, Fuel Cycle Licensing Branch, Division of Fuel Cycle Safety and Safeguards, Office of Nuclear Material Safety and Safeguards (NMSS/FCSS/FCLB), at (301) 415-6658 or e-mail at TLJ@NRC.GOV. In addition, to obtain an approximate estimate of the total number of participants and equipment needed, please contact Mr. Johnson if you plan to attend the workshop or if you have specific audio-visual requirements.

Dated at Rockville, Maryland this 24th day of August, 2000.
For the U.S. Nuclear Regulatory Commission.
Philip Ting,
Chief, Fuel Cycle Licensing Branch, Division of Fuel Cycle Safety and Safeguards, Office of Nuclear Material Safety and Safeguards.

[FR Doc. 00-22157 Filed 8-29-00; 8:45 am]

BILLING CODE 7590-01-P